DEPARTMENT OF HEALTH AND HUMAN SERVICES

Centers for Disease Control and Prevention

[30Day-17-1074]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Colorectal Cancer Control Program (CRCCP) Monitoring Activities (OMB Control Number 0920-1074, expires 06/30/2019)—Revision—National Center for Chronic Disease Prevention and Health Promotion (NCCDPHP), Centers for Disease Control and Prevention (CDC).

Background and Brief Description

CDC is requesting a revision to the approved information collection under OMB Control Number 0920-1074. CDC proposes use of a revised grantee survey instrument, as well as a revised clinic-level data collection template. The number of respondents will also decrease from 31 to 30 grantees, and the total estimated annualized burden will decrease.

Colorectal cancer (CRC) is the second leading cause of death from cancer in the United States among cancers that affect both men and women. CRC screening has been shown to reduce incidence of and death from the disease. Screening for CRC can detect disease early when treatment is more effective and prevent cancer by finding and removing precancerous polyps. Of individuals diagnosed with early stage CRC, more than 90% live five or more years. To reduce CRC morbidity, mortality, and associated costs, use of CRC screening tests must be increased among age-eligible adults with the lowest CRC screening rates.

The purpose of the Colorectal Cancer Control Program (CRCCP): Organized Approaches to Increase Colorectal Cancer Screening (CDC-RFA-DP15-1502), is to increase CRC screening rates among an applicant defined target population of persons 50-75 years of age within a partner health system serving a defined geographical area or disparate population. The CRCCP includes 30 grantees that are state governments or bona-fide agents, universities, and tribal organizations.

The CRCCP was significantly redesigned in 2015 and has two components. Under Component 1, all grantees receive funding to support partnerships with health systems to implement up to four priority evidence-based interventions (EBIs) described in the Guide to Community Preventive Services, as well as other supporting activities (SAs). Grantees must implement at least two EBIs in each partnering health system. Under Component 2, six of the 30 grantees provide direct screening and follow-up clinical services for a limited number of individuals aged 50-64 in the program's priority population who are asymptomatic, at average risk for CRC, have inadequate or no health insurance for CRC screening, and are low income.

Two forms of data collection have been implemented to assess program processes and outcomes. In Program Year 1, the annual grantee survey monitored grantee program implementation, including (1) program management, (2) implementation of the EBIs and SAs, (3) health information technology (IT), (4) partnerships, (5) data use, (6) training and technical assistance (TA), and (7) clinical service delivery (for programs receiving Component 2 funding only). Clinic-level data collection assessed CRCCP's primary outcome of interest—CRC screening rates within partner health systems—by measuring: (1) Partner health system, clinic, and patient population characteristics, (2) reporting period (for screening rates), (3) Chart review screening rate data, (4) Electronic Health Record (EHR) screening rate, and (5) Priority evidence-based EBIs and SAs.

Based on feedback from grantees and internal subject matter experts, CDC proposes use of updated data collection instruments. Specifically, CDC plans to implement a revised CRCCP grantee survey that eliminates questions related to EBI and SA implementation as these data are more accurately reported at the clinic level. Conversely, CDC will implement a revised CRCCP clinic-level data collection template with additional data variables related to EBI and SA implementation, as well as monitoring and evaluation activities, at the clinic level.

Redesigned data elements will enable CDC to better gauge progress in meeting CRCCP program goals and monitor implementation activities, evaluate outcomes, and identify grantee technical assistance needs. In addition, data collected will inform program improvement and help identify successful activities that need to be maintained, replicated, or expanded.

OMB approval is requested for three years. The total estimated annualized burden hours have decreased from 210 to 204 hours. There are no costs to respondents other than their time.

Estimated Annualized Burden Hours
Type of respondent | Form name | Number of respondents | Number of responses per respondent | Average burden per response (in hrs)
CRCCP Grantees | CRCCP Annual Grantee Survey | 30 | 1 | 24/60
| CRCCP Clinic-level Information Collection Template | 30 | 12 | 32/60
Total |  |  |  |

Leroy A. Richardson,
Chief, Information Collection Review Office, Office of Scientific Integrity, Office of the Associate Director for Science, Office of the Director, Centers for Disease Control and Prevention.

[FR Doc. 2017-08490 Filed 4-26-17; 8:45 am]

BILLING CODE 4163-18-P